DEPARTMENT OF COMMERCE

National Telecommunications and Information Administration

[Docket No. 160509408-6408-01]

RIN 0660-XC026

Input on Proposals and Positions for 2016 World Telecommunication Standardization Assembly

AGENCY: National Telecommunications and Information Administration, U.S. Department of Commerce.

ACTION: Notice and request for public comment.

SUMMARY: The National Telecommunications and Information Administration (NTIA) seeks input from stakeholders and interested parties to help develop its proposals and positions regarding matters that will be addressed at the upcoming 2016 World Telecommunication Standardization Assembly (WTSA-2016) of the International Telecommunication Union (ITU), being held from October 25 to November 3, 2016. The results of this Notice and Request for Public Comment will be reflected in NTIA's recommendations for U.S. proposals and positions to the U.S. Department of State, which is coordinating the WTSA-2016 preparatory process.

DATES: Comments are due on or before June 16, 2016.

ADDRESSES: Written comments may be submitted by mail to Vernita D. Harris, Deputy Associate Administrator, Office of International Affairs, National Telecommunications and Information Administration, 1401 Constitution Avenue NW., Room 4701, Washington, DC 20230. Comments may also be submitted electronically to vharris@ntia.doc.gov or to WTSA2016@ntia.doc.gov. Comments provided electronically should be submitted in a text searchable format using standard Microsoft Word or Adobe PDF. Comments will be posted to NTIA's Web site at https://www.ntia.doc.gov/federal-register-notice/2016/wtsa16-rfc-comments.

FOR FURTHER INFORMATION CONTACT: For questions about this Notice contact: Vernita D. Harris, Deputy Associate Administrator, Office of International Affairs, National Telecommunications and Information Administration, U.S. Department of Commerce, 1401 Constitution Avenue NW., Room 4701, Washington, DC 20230; telephone: (202) 482-4686; email: vharris@ntia.doc.gov. Please direct media inquiries to the Office of Public Affairs, NTIA, at (202) 482-7002.

SUPPLEMENTARY INFORMATION:

Background: The WTSA, which occurs every four years, sets the overall strategic direction and activities for upcoming ITU Telecommunication Standardization Sector (ITU-T) work; defines the general policy for the ITU-T; approves, modifies or rejects ITU-T Standards (known as “recommendations”); and establishes the structure for the ITU-T study groups, approves their expected work program for the next four-year period, and appoints their Chairmen and Vice-Chairmen. The next WTSA conference will be held from October 25 to November 3, 2016, in Yasmine Hammamet, Tunisia. Participants historically include ministers, ambassadors, government delegates, regional and international organizations, and representatives from academia, civil society, and the private sector.

The U.S. Department of State initiated U.S. preparations for WTSA-2016 in January 2016, which are focused on developing formal U.S. priorities for WTSA-2016.¹

¹ See Department of State, Notice of Meeting of the International Telecommunication Advisory Committee and Preparations for Upcoming International Communications and Information Policy Meetings, Public Notice: 9399, 81 FR 847 (Jan. 7, 2016).

NTIA, as the principal adviser to the President on telecommunications and information policy, seeks input from stakeholders and other interested parties to develop its recommendations to the U.S. Department of State and to inform any NTIA delegates who will attend the WTSA. NTIA's participation in the U.S. WTSA-2016 preparatory process is intended to ensure that U.S. proposals and positions support the nation's telecommunications, converged communications infrastructure, information and technology policies to promote economic growth and digital innovation, and do not duplicate the standards development processes of other bodies.

Discussion: There are numerous standards organizations and fora around the globe focused on various aspects of telecommunication and information policies. No single organization can cover all ground, nor should it try or claim to do so.

The purpose of this Notice and Request for Public Comment is to seek input from stakeholders and other interested parties to share their perspectives as to whether and how the work of the ITU-T results in standards that meet their needs. We are interested in particular on input related to ITU-T restructuring and work methods and rules of procedure.

Questions for Public Comment

NTIA requests comment on the questions below. NTIA also welcomes input and comments on any specific issues being advanced by other countries, private sector organizations, and stakeholders for WTSA-2016.

(1) Are there overarching objectives and priorities that the U.S. delegation should adopt for WTSA-2016 and the ITU-T? What is the best way for the U.S. delegation to advance and ultimately achieve these objectives and priorities?

(2) In an environment with a wide range of industry led, multistakeholder standards development organization (SDOs) leading the development of telecommunications and information standards, does an intergovernmental organization, such as the ITU, provide any unique value? How does ITU involvement in global standards development influence, or affect U.S. industry interests in engaging in and promoting the international digital economy?

(3) What do you believe is the percentage of participation of relevant organizations or companies in the ITU-T study groups? What is the value of this participation in the ITU-T study groups? Does this participation meeting the needs of relevant organizations or companies?

(4) Is there a wide implementation of the ITU-T recommendations in the United States or elsewhere by relevant organizations or companies? Why or why not? Can you provide examples of these implementations, if any?

(5) The WTSA-12 Action Plan (see https://www.ntia.doc.gov/files/ntia/WTSA16/WTSA-12-Action-Plan.pdf) identified issues that will be discussed during WTSA-2016. Which of these issues are the most important to focus on in the upcoming WTSA-2016? What positions should be taken with respect to these issues?

(6) Are the ITU-T work methods and/or rules of procedure effective? Why or why not? What, if any, modifications to ITU-T Resolutions and Recommendations (see https://www.ntia.doc.gov/page/wtsa-12-resolutions-and-opinions) or to the ITU-T working methods or rules of procedure would you recommend to improve efficiency and effectiveness? Are there structural changes to the ITU-T that could make the organization more relevant?

(7) What are the most important international standardization public policy issues and topics? And why? In what areas or subjects do you believe the ITU-T has a particular role or expertise?

(8) Assuming the ITU-T study group structure remains as it is today, in which study groups and activities should NTIA prioritize its participation and why?

(9) How could cooperation and collaboration between ITU-T and other SDOs be strengthened? How could cooperation and collaboration among the three ITU sectors be strengthened?

(10) The ITU and its membership have identified a standardization gap between developed and developing countries and a need to bridge that gap to ensure greater participation by all countries in the work of the ITU-T. What is the best way to address this gap? Would ITU programs on this topic be better placed within the ITU-D or the ITU-T? What other steps can be taken to bridge this gap?

NTIA invites comment on the questions set forth in this Notice and Request for Public Comment as well as input on any other issues relevant to NTIA's participation in the ITU-T that will assist NTIA in its consultations with the U.S. Department of State and other U.S. government agencies in preparation for WTSA-2016.

Dated: May 12, 2016.
Lawrence E. Strickling,
Assistant Secretary for Communications and Information.

[FR Doc. 2016-11609 Filed 5-16-16; 8:45 am]

BILLING CODE 3510-60-P